DEPARTMENT OF ENERGY

Federal Energy Regulatory Commission

Combined Notice of Filings #1

Take notice that the Commission received the following exempt wholesale generator filings:

Docket Numbers: EG25-383-000.

Applicants: Iron Springs BESS LLC.

Description: Iron Springs BESS LLC submits Notice of Self-Certification of Exempt Wholesale Generator Status.

Filed Date: 7/9/25.

Accession Number: 20250709-5053.

Comment Date: 5 p.m. ET 7/30/25.

Take notice that the Commission received the following Complaints and Compliance filings in EL Dockets:

Docket Numbers: EL25-102-000.

Applicants: Sonia S. Solis and Julian Solis-Sandoval v. MidAmerican Energy Company, et al.

Description: Complaint of Sonia S. Solis and Julian Solis-Sandoval vs. MidAmerican Energy Company, et al.

Filed Date: 5/13/25.

Accession Number: 20250513-0001.

Comment Date: 5 p.m. ET 7/28/25.

Take notice that the Commission received the following electric rate filings:

Docket Numbers: ER25-2806-000.

Applicants: LS Power Grid California, LLC.

Description: § 205(d) Rate Filing: Normal filing 2025 Append III to be effective 9/7/2025.

Filed Date: 7/8/25.

Accession Number: 20250708-5149.

Comment Date: 5 p.m. ET 7/29/25.

Docket Numbers: ER25-2807-000.

Applicants: Faraday Solar B LLC.

Description: § 205(d) Rate Filing: Faraday Solar B Shared Facilities Agreement to be effective 9/1/2025.

Filed Date: 7/9/25.

Accession Number: 20250709-5000.

Comment Date: 5 p.m. ET 7/30/25.

Docket Numbers: ER25-2808-000.

Applicants: Power Authority of the State of New York, New York Independent System Operator, Inc.

Description: § 205(d) Rate Filing: New York Independent System Operator, Inc. submits tariff filing per 35.13(a)(2)(iii: NYISO-NYPA 205: LGIA Garnet Energy Center SA2892 (CEII) to be effective 6/24/2025.

Filed Date: 7/9/25.

Accession Number: 20250709-5005.

Comment Date: 5 p.m. ET 7/30/25.

Docket Numbers: ER25-2809-000.

Applicants: Iron Springs BESS LLC.

Description: § 205(d) Rate Filing: Market-Based Rate Application and Request for Waivers and Blanket Approvals to be effective 9/8/2025.

Filed Date: 7/9/25.

Accession Number: 20250709-5042.

Comment Date: 5 p.m. ET 7/30/25.

Docket Numbers: ER25-2810-000.

Applicants: Midcontinent Independent System Operator, Inc.

Description: § 205(d) Rate Filing: 2025-07-09_SA 4532 NIPSCO-Reynolds Solar GIA (J1646) to be effective 9/8/2025.

Filed Date: 7/9/25.

Accession Number: 20250709-5055.

Comment Date: 5 p.m. ET 7/30/25.

Docket Numbers: ER25-2811-000.

Applicants: Duke Energy Carolinas, LLC.

Description: Tariff Amendment: Notice of Cancellation—DEC RS 345 to be effective 5/31/2025.

Filed Date: 7/9/25.

Accession Number: 20250709-5077.

Comment Date: 5 p.m. ET 7/30/25.

Docket Numbers: ER25-2812-000.

Applicants: PJM Interconnection, L.L.C.

Description: § 205(d) Rate Filing: Amendment to ISA, SA No. 4827; Queue No. AC1-010 (amend) to be effective 9/8/2025.

Filed Date: 7/9/25.

Accession Number: 20250709-5080.

Comment Date: 5 p.m. ET 7/30/25.

Docket Numbers: ER25-2813-000.

Applicants: Duke Energy Progress, LLC.

Description: Tariff Amendment: Notice of Cancellation RS No. 198 to be effective 5/31/2025.

Filed Date: 7/9/25.

Accession Number: 20250709-5085.

Comment Date: 5 p.m. ET 7/30/25.

Docket Numbers: ER25-2814-000.

Applicants: Duke Energy Florida, LLC.

Description: Tariff Amendment: DEF-FPL Notice of Termination SA No. 325 to be effective 9/8/2025.

Filed Date: 7/9/25.

Accession Number: 20250709-5102.

Comment Date: 5 p.m. ET 7/30/25.

Docket Numbers: ER25-2815-000.

Applicants: Atlas Solar Manager, LLC.

Description: § 205(d) Rate Filing: Co-Tenancy Agreement New filing to be effective 7/10/2025.

Filed Date: 7/9/25.

Accession Number: 20250709-5107.

Comment Date: 5 p.m. ET 7/30/25.

Docket Numbers: ER25-2816-000.

Applicants: Atlas Solar Manager, LLC.

Description: Initial rate filing: Normal filing SFA common 2025 to be effective 7/10/2025.

Filed Date: 7/9/25.

Accession Number: 20250709-5111.

Comment Date: 5 p.m. ET 7/30/25.

Docket Numbers: ER25-2817-000.

Applicants: Atlas Solar Manager, LLC.

Description: Initial rate filing: Normal filing SFA substation 1 filing to be effective 7/10/2025.

Filed Date: 7/9/25.

Accession Number: 20250709-5124.

Comment Date: 5 p.m. ET 7/30/25.

Docket Numbers: ER25-2818-000.

Applicants: Adelite Solar, LLC.

Description: § 205(d) Rate Filing: Adelite Solar, LLC MBR Tariff to be effective 9/8/2025.

Filed Date: 7/9/25.

Accession Number: 20250709-5133.

Comment Date: 5 p.m. ET 7/30/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659. The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: July 9, 2025.
Carlos D. Clay,
Deputy Secretary.

[FR Doc. 2025-13106 Filed 7-11-25; 8:45 am]

BILLING CODE 6717-01-P